DEPARTMENT OF COMMERCE

International Trade Administration

[A-428-821]

Large Newspaper Printing Presses and Components Thereof, Whether Assembled or Unassembled, from Germany: Final Court Decision and Amended Final Determination of Sales at Less Than Fair Value

AGENCY: Import Administration, International Trade Administration, Department of Commerce.

ACTION: Notice of Final Court Decision and Amended Final Determination of Sales at Less Than Fair Value.

SUMMARY: On March 8, 2000, the Court of International Trade affirmed the Department of Commerce's second remand determination results affecting the final margins for MAN Roland Druckmaschinen AG and its wholly-owned subsidiary MAN Plamag Druckmaschinen AG, as well as for “All Other” producers/exporters, except Koenig Bauer-Albert AG, in the less-than-fair-value investigation of large newspaper printing presses and components thereof, whether assembled or unassembled, from Germany. As there is now a final and conclusive court decision in this action, we are amending our final determination and will instruct the United States Bureau of Customs and Border Protection (BCBP) to liquidate all appropriate entries at the amended rate, as appropriate.

EFFECTIVE DATE: September 26, 2003.

FOR FURTHER INFORMATION CONTACT: David Goldberger at (202) 482-4136 or Irene Darzenta Tzafolias at (202) 482-0922, Office of Antidumping/Countervailing Duty Enforcement, Import Administration, International Trade Administration, U.S. Department of Commerce, 14th Street and Constitution Avenue, N.W., Washington, D.C. 20230.

SUPPLEMENTARY INFORMATION:

Background

On July 23, 1996, the Department of Commerce (the Department) published notice of its final determination of less-than-fair-value (LTFV) investigation of large newspaper printing presses and components thereof, whether assembled or unassembled (LNPP), from Germany. See Notice of Final Determination of Sales at Less Than Fair Value: Large Newspaper Printing Presses and Components Thereof, Whether Assembled or Unassembled, from Germany, 61 FR 38166 (July 23, 1996). In the final determination of the LTFV investigation, the Department established a final dumping margin of 30.80 percent ad valorem for MAN Roland Druckmaschinen AG (MAN Roland) and All Others (except Koenig Bauer-Albert AG (KBA) for which a 46.40 percent margin was established based on adverse facts available). On September 4, 1996, the Department published an antidumping duty order correcting ministerial errors made in the final determination and instructing the Customs Service¹ to collect cash deposits at the rate of 30.72 percent ad valorem for MAN Roland and All Others (except KBA as indicated above), on entries of the subject merchandise entered or withdrawn from warehouse on or after the date of publication of the International Trade Commission's (ITC's) final determination of threat of material injury.² See Notice of Antidumping Duty Order and Amended Final Determination of Sales at Less Than Fair Value: Large Newspaper Printing Presses and Components Thereof, Whether Assembled or Unassembled, from Germany, 61 FR 46623 (September 4, 1996).

¹ Now known as BCBP.

² The ITC's final determination of threat of material injury was published on September 5, 1996. The ITC found that an industry in the United States was threatened with material injury, and further determined, pursuant to section 735(b)(4)(B) of the Tariff Act of 1930, as amended, that it would not have found material injury but for the suspension of liquidation of entries of the merchandise under investigation. See ITC Final, 61 FR 46824 (September 5, 1996) at footnote 4. Therefore, pursuant to section 736(b)(2) of the Act, the Department directed the Customs Service to terminate the suspension of liquidation of entries of LNPP imported from Germany, entered or withdrawn from warehouse, for consumption before this date, and to release any bond or other security, and refund any cash deposit, posted to secure the payment of estimated antidumping duties with respect to these entries.

Following publication of the Department's antidumping duty order, the respondent MAN Roland and the petitioner Goss Graphic System, Inc., filed a lawsuit with the Court of International Trade (CIT) challenging various aspects of the Department's final determination of the LTFV investigation. In its first decision in this case on June 23, 1998, Koenig & Bauer-Albert AG, et al., v. United States, 15 F. Supp. 2d 834, 849-850, 854-855 (CIT 1998), Slip Op. 98-83 at 28-30, 40-43, the CIT issued an order remanding two issues to the Department. In its remand instructions, the Court ordered the Department to reconsider its decision not to combine certain production costs for MAN Roland and its affiliate MAN Plamag Druckmaschinen AG (MAN Plamag), and granted the Department's request to recalculate MAN Roland's selling, general and administrative (SG&A) expenses using an appropriate cost allocation ratio. In its final remand determination on September 17, 1998, the Department declined to compute a single, weighted-average cost for MAN Roland and Man Plamag because the companies failed to satisfy the fundamental condition for averaging costs -- that the products manufactured at their facilities be sufficiently similar in physical characteristics, such that they could be considered identical for product comparison purposes. However, the Department recalculated MAN Roland's SG&A expenses using an appropriate allocation ratio. See September 17, 1998, Final Results of Redetermination Pursuant to Court Remand (Redetermination 1) at 9-10, 13-14. As a result of our recalculations pursuant to Court remand, the antidumping margin for MAN Roland changed from 30.72 to 39.60 percent.

In a later decision on March 16, 1999, Koenig & Bauer-Albert AG, et al., v. United States, 44 F. Supp. 2d 280, 287-288 (CIT 1999), Slip Op. 99-25 at 16-18, the CIT affirmed the Department's recalculation of MAN Roland's SG&A expenses, but did not affirm the Department's final remand results pertaining to the issue of combining certain production costs of MAN Roland and its affiliate. The CIT held that the Department did not address the threshold question of whether MAN Roland and MAN Plamag should be collapsed in order to properly determine whether their production costs should be averaged, and remanded the issue to the Department again for reconsideration and explanation consistent with its opinion. Upon remand, on August 10, 1999, the Department found that MAN Roland and MAN Plamag should have been collapsed as a single entity in performing its antidumping analysis in accordance with the Department's practice as it then existed and was later codified at 19 CFR 351.401(f). Moreover, the Department determined that treating these affiliated producers as a single entity necessitated that the inputs transferred between them be valued at the cost of producing the input, and adjusted its constructed value calculations accordingly. Furthermore, in light of the identical merchandise requirement for production cost averaging purposes, the Department maintained its previous remand determination not to weight-average the production costs of the two affiliated companies. In addition, because MAN Plamag made no sales of subject merchandise to the United States during the period of investigation, the Department's decision to collapse MAN Roland and MAN Plamag did not require any changes to the sales side of the Department's original final margin analysis. However, in contrast to its original final determination, the Department applied the same margin, as amended based on the above-described cost adjustments, to both MAN Roland and MAN Plamag. See August 10, 1999, Final Results of Redetermination Pursuant to Court Remand (Redetermination 2) at 5-8. As a result of the adjustments made in Redetermination 2, the revised antidumping margin for both MAN Roland and MAN Plamag changed from 39.60 percent (margin calculated based on Redetermination 1) to 39.53 percent.

In sum, as a result of the two remands in this case, the final dumping rate for MAN Roland and its affiliate MAN Plamag increased from 30.72 percent (the original final LTFV margin for MAN Roland) to 39.53 percent ad valorem. The rate for All Others (which was originally based on Man Roland's rate) changed accordingly.

On March 8, 2000, the CIT affirmed the Department's final remand results (see Koenig & Bauer-Albert AG, et al., v. United States, Slip Op. 00-25, 90 F. Supp. 2d 1284 (CIT 2000). On April 7, 2000, we published a notice of court decision (see Notice of Court Decision and Suspension of Liquidation: Large Newspaper Printing Presses and Components Thereof, Whether Assembled or Unassembled, from Germany, 65 FR 18294).

On April 22, 2002, the antidumping duty order on large newspaper printing presses and components thereof, whether assembled or unassembled, from Germany was revoked effective September 1, 1999 (Large Newspaper Printing Presses and Components Thereof, Whether Assembled or Unassembled, from Germany: Notice of Final Results of Changed Circumstances Review, Revocation of the Antidumping Duty Order, and Rescission of Administrative Reviews, 67 FR 19551). On May 15, 2002, the CIT dismissed the litigation (Koenig & Bauer-Albert AG v. U.S., Consol. No. 96-10-02298).

Therefore, in accordance with Redetermination 2, and because all litigation has concluded and the injunction has been lifted, we are amending our final LTFV determination in this matter and we will instruct the BCBP to liquidate entries, as appropriate, in accordance with our remand results.

Amendment to Final Determination

Pursuant to section 516A(e) of the Act, we are amending the final determination of LTFV investigation of LNPP from Germany. As a result of the remand determinations, we have assigned MAN Roland/MAN Plamag, and All Others final weighted-average margins as follows:

Manufacturer/Exporter | Weighted-average margin percentage
MAN Roland/MAN Plamag | 39.53
All Others | 39.53

Accordingly, the Department shall determine, and the BCBP shall assess, antidumping duties on all appropriate entries. We will instruct the BCBP to assess entry-specific antidumping duty amounts by applying an ad valorem rate of 39.53 percent to the value of each entry during the period September 5, 1996 through August 31, 1997. The Department will issue appraisement instructions to the BCBP after publication of the amended final determination.

This notice is published in accordance with sections 735(d) and 777(i) of the Act.

Dated: September 16, 2003.
James J. Jochum,
Assistant Secretaryfor Import Administration.

[FR Doc. 03-24395 Filed 9-25-03; 8:45 am]

BILLING CODE 3510-DS-S